DEPARTMENT OF THE INTERIOR

Bureau of Land Management

[CA-170]

Notice of Intent To Prepare a Proposed Resource Management Plan Amendment and Associated Environmental Assessment for the Bureau of Land Management (BLM), Bishop Field Office, Located in Eastern California

AGENCY: Bureau of Land Management, Interior.

ACTION: Notice of intent.

SUMMARY: This document provides notice that the BLM intends to prepare a Proposed Resource Management Plan (RMP) Amendment and associated Environmental Assessment for the Bishop Field Office, located in eastern California. The Bishop Field Office manages approximately 750,000 acres of public lands, with its headquarters located in Bishop, California. An amendment to the existing 1993 RMP is needed to update Land Use Plan decisions to comply with new national direction for the National Fire Plan/ Comprehensive Strategy and BLM directives.

The Proposed RMP Amendment and EA would fulfill the needs and obligations set forth by the National Environmental Policy Act (NEPA), the Federal Land Policy and Management Act (FLPMA), and BLM management policies. The BLM will work collaboratively with interested parties to identify management decisions that best address local, regional, and national needs and concerns. The public scoping process will identify wildland fire and hazardous fuels management planning issues and develop planning criteria.

DATES: This notice initiates the public scoping process. Public comments will be accepted throughout the entire planning process, but to be most beneficial comments on the preliminary issues and suggestions for potential planning criteria should be submitted in writing to the address listed below and will be accepted for 30 days following the publication of this notice in the Federal Register. Public meetings will be held throughout the plan scoping and preparation period. In order to ensure local community participation and input, public meetings will be held in locations most closely affiliated with the public lands in the planning area. Probable locations include Bridgeport and Bishop, California. These public meetings are scheduled to be held the month of May 2004. Specific dates and meeting locations will be announced by BLM through news releases, direct mailings or other applicable means of public notification within 15 days of the event.

ADDRESSES: Scoping comments should be sent to Bill Dunkelberger, Field Office Manager, BLM—Bishop Field Office, 351 Pacu Lane, Suite 100, Bishop, California 93514. Comments will also be received via Fax at (760) 872-5050 or e-mail at caweb170@ca.blm.gov.

The BLM will maintain a record of public documents related to the development of the RMP amendment at the Bishop Field Office at the address listed above. Comments, including names and street addresses of respondents will be available for public review at the Bishop Field Office in Bishop, California during regular business hours, 8 a.m. to 4 p.m., Monday through Friday, excluding Federal holidays, and may be published as part of the EA. Individual respondents may request confidentiality. Individuals who wish to withhold their name or street address from public review or from disclosure under the Freedom of Information Act must state this prominently at the beginning of their written comment. Such requests will be honored to the extent allowed by law. BLM will not consider anonymous comments. All submissions from organizations and businesses, and from individuals identifying themselves as representatives or officials of organizations or businesses, will be available for public inspection in their entirety.

FOR FURTHER INFORMATION CONTACT: Dale Johnson, Fuels Specialist, BLM—Bishop Field Office, 351 Pacu Lane, Suite 100, Bishop, California 93514, (760) 872-5055 or via e-mail at dale_f_johnson@ca.blm.gov.

SUPPLEMENTARY INFORMATION: Preliminary issues and management concerns have been identified by BLM personnel in consultation with other agencies, individuals and organizations, and include: Management of special areas, health and resilience of wetland, riparian and upland ecosystems, management and protection of sensitive, rare, threatened or endangered species, community protection, firefighter safety, invasive plants, visual resources management, Native American traditions and practices, and protection of cultural resource sites.

Disciplines involved in the planning process include specialists with expertise in wildlife and fisheries management, forestry, botany and vegetation community ecology, fire/fuels management and ecology, hydrology and watershed management, archeology, lands and realty, minerals and geology, grazing management and recreation management.

Authority: 43 CFR 1610.5-5.

Dated: April 2, 2004.
Bill Dunkelberger,
Field Office Manager, Bishop Field Office.

[FR Doc. 04-11731 Filed 5-24-04; 8:45 am]

BILLING CODE 4310-40-P